DEPARTMENT OF ENERGY

Federal Energy Regulatory Commission

[Docket No. CP02-4-004]

Northwest Pipeline Corporation; Notice of Compliance Filing

July 3, 2003.

Take notice that on June 27, 2003, Northwest Pipeline Corporation (Northwest) tendered for filing as part of its FERC Gas Tariff, Third Revised Volume No. 1, Original Sheet No. 26 and Sheet Nos. 27 through 29, to be effective July 1, 2003.

Northwest states that this filing complies with the Commission's order dated May 7, 2003 in Docket No. CP02-4-002 requiring Northwest to file a tariff sheet containing a provision to make a one time, pro rata credit to each Evergreen Expansion Project shipper, in invoices for October, 2003, for all base tariff reservation charge revenues received by Northwest for marketing the expanded compression-only capacity in the Sumas-Chehalis corridor during July through September 2003.

Northwest states that a copy of this filing has been served upon each person designated on the official service list complied by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 17, 2003.

Linda Mitry,
Acting Secretary.

[FR Doc. 03-17484 Filed 7-9-03; 8:45 am]

BILLING CODE 6717-01-P